DEPARTMENT OF VETERANS AFFAIRS

[OMB Control No. 2900-0710]

Proposed Information Collection (VSO Access to VHA Electronic Health Records) Activity; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to establish computer accounts for Veteran Service Officers (VSO) to access VA's Veterans Health Information Systems Technology Architecture (VistA).

DATES: Written comments and recommendations on the proposed collection of information should be received on or before September 6, 2011.

ADDRESSES: Submit written comments on the collection of information through Federal Docket Management System (FDMS) at http://www.Regulations.gov or to Cynthia Harvey-Pryor, Veterans Health Administration (193E1), Department of Veterans Affairs, 810 Vermont Avenue, NW., Washington, DC 20420; or e-mail: cynthia.harvey-pryor@va.gov. Please refer to “OMB Control No. 2900-0710” in any correspondence. During the comment period, comments may be viewed online through FDMS.

FOR FURTHER INFORMATION CONTACT: Cynthia Harvey-Pryor at (202) 461-5870 or FAX (202) 273-9381.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: VSO Access to VHA Electronic Health Records, VA Form 10-0400.

OMB Control Number: 2900-0710.

Type of Review: Extension of a currently approved collection.

Abstract: VSO's complete VA Form 10-0400 to request authorization to access VA VistA database. VA will use the data collected to establish an account for VSO's who were granted power of attorney by veterans who have medical information recorded in VHA electronic health records system.

Affected Public: Individuals or households.

Estimated Total Annual Burden: 400 hours.

Estimated Average Burden per Respondent: 2 minutes.

Frequency of Response: One time.

Estimated Number of Respondents: 12,000.

Dated: July 5, 2011.
By Direction of the Secretary.
Denise McLamb,
Program Analyst, Enterprise Records Service.

[FR Doc. 2011-17172 Filed 7-7-11; 8:45 am]

BILLING CODE 8302-01-P